DEPARTMENT OF LABOR

Employment and Training Administration

[TA-W-80,185]

Iron Mountain Information Management, Inc., Corporate Service Group, Information Technology (IT) Division, Including On-Site Leased Workers From TEK Systems, Professional Alternative, Randstad US/Sapphire Technologies, Spherion Staffing Services/Technisource, Manpower, Advantage (Formerly Known as TAC), and Mccallion Boston, Massachusetts, and Including Off-Site Workers From California, Florida, Louisiana, Massachusetts, Michigan, Missouri, North Carolina, New Jersey, Nevada, Oregon, Pennsylvania, Texas, Vermont and Washington Reporting to Boston, Massachusetts; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 1, 2011, applicable to workers of Iron Mountain Information Management, Inc., Corporate Service Group, Information Technology (IT) Division, including on-site leased workers from TEK Systems, Professional Alternative, Randstad US/Sapphire Technologies, Spherion Staffing Services/Technisource and Manpower, Boston, Massachusetts and including off-site workers from California, Florida, Louisiana, Massachusetts, Michigan, Missouri, North Carolina, New Jersey, Nevada, Oregon, Pennsylvania, Texas, Vermont and Washington reporting to Boston, Massachusetts. The workers are engaged in activities related to the production of digital imaging software. The notice was published in the Federal Register on September 19, 2011 (76 FR 58046).

At the request of the State agency, the Department reviewed the certification for workers of the subject firm. New information shows that workers leased from Advantage (formerly known as TAC) and McCallion Staffing were employed on-site at the Boston, Massachusetts location of Iron Mountain Information Management, Inc., Corporate Service Group, Information Technology (IT) Division.

The Department has determined that these workers were sufficiently under the control of Iron Mountain Information Management, Inc., Corporate Service Group, Information Technology (IT) Division be considered leased workers.

The intent of the Department's certification is to include all workers of the subject firm adversely affected by actual/likely increase in imports following a shift abroad.

Based on these findings, the Department is amending this certification to include workers leased from Advantage (formerly known as TAC), and McCallion working on-site at the Boston, Massachusetts location of the subject firm.

The amended notice applicable to TA-W-80,185 is hereby issued as follows:

All workers of Iron Mountain Management, Inc., Corporate Service Group, Information Technology (IT) Division, including on-site leased workers from TEK Systems, Professional Alternative, Randstad US/Sapphire Technologies, Spherion Staffing Services/Technisource, Manpower Advantage (formerly known as TAC), and McCallion, Boston, Massachusetts including off-site workers from California, Florida, Louisiana, Massachusetts, Michigan, Missouri, North Carolina, New Jersey, Nevada, Oregon, Pennsylvania, Texas, Vermont and Washington reporting to Boston, Massachusetts, who became totally or partially separated from employment on or after May 17, 2010, through September 1, 2013, are eligible to apply for adjustment assistance under Section 223 of the Trade Act of 1974, and are also eligible to apply for alternative trade adjustment assistance under Section 246 of the Trade Act of 1974.

Signed at Washington, DC, this 13th day of October 2011.
Elliott S. Kushner,
Certifying Officer, Office of Trade Adjustment Assistance.

[FR Doc. 2011-27703 Filed 10-25-11; 8:45 am]

BILLING CODE ;P